DEPARTMENT OF TRANSPORTATION

Office of the Secretary

Transportation Infrastructure Financing and Innovation Act (TIFIA) Program; Agency Information Collection Activities and Request for Comments

AGENCY: Office of the Secretary of Transportation (OST).

SUMMARY: The Department of Transportation (DOT) invites public comments on a request to the Office of Management and Budget (OMB) to renew an Information Collection Request in accordance with the requirements of the Paperwork Reduction Act of 1995 (Pub. L. 104-13, 44 USC 3501 et seq).

On July 6, 2012, the President of the United States signed the Moving Ahead for Progress in the 21st Century Act of 2012 (MAP-21). MAP-21 authorized $750 million in FY 2013 and $1 billion in FY 2014 for the Transportation Infrastructure Financing and Innovation Act (TIFIA) program to pay the subsidy cost of supporting Federal credit. The TIFIA program will provide Federal credit assistance in the form of direct loans, loan guarantees, and standby lines of credit to eligible surface transportation projects. This information collection relates to the collection of information from entities interested in TIFIA credit assistance and assists DOT in evaluating projects and project sponsors for program eligibility and creditworthiness.

DATES: Written comments should be submitted by November 23, 2013.

ADDRESSES: Comments are invited on: (a) The need for the proposed collection of information for the proper performance of the functions of the agency, including whether the information will have practical utility; (b) The accuracy of the agency's estimate of the burden of the proposed collection of information, including the validity of the methodology and assumptions used; (c) Ways to enhance the quality, utility, and clarity of the information to be collected; and (d) Ways to minimize the burden of the collection of information on those who are to respond, including the use of appropriate automated, electronic, mechanical, or other technological collection techniques. You may submit comments identified by Docket No. DOT-OST-2013-0173 through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: The TIFIA program manager via email at TIFIACredit@dot.gov.

SUPPLEMENTARY INFORMATION:

Title: Transportation Infrastructure Financing and Innovation Act program or TIFIA program.

OMB Control Number: 2105-0569.

Affected Public: State and local governments, transit agencies, railroad companies, special authorities, special districts, and private entities.

Estimated Total Annual Number of Responses: 50 letters of interest and 50 applications.

Estimated Total Annual Burden Hours: 6,000 hours. Based on the number and type of interested stakeholders that have contacted the Department about this program, OST estimates that it will receive 50 applications and letters of interest and that it will generally not take applicants more than 100 person-hours to assemble individual applications and 20 person-hours to assemble individual letters of interest. Therefore, the total annual hour burden of this collection of applications is 6,000 hours.

Frequency of Collection: The Department expects that this information collection will occur on a rolling basis as interested entities seek TIFIA credit assistance.

Background: This is an existing information collection that was originally approved through the emergency approval process on August 7, 2013. DOT has published a notice in the Federal Register (also available at: http://www.fhwa.dot.gov/ipd/pdfs/tifia/fy2013_tifia_nofa_073112.pdf) to give project sponsors an opportunity to submit Letters of Interest and applications for the newly authorized funding as soon as possible. However, in addition to authorizing more funding for TIFIA credit assistance, MAP-21 made some significant changes to the TIFIA program's structure, including the terms and conditions pursuant to which DOT can provide TIFIA credit assistance. DOT is required to solicit letters of interest and applications for TIFIA credit assistance from interested applicants. DOT has developed forms that provide a way for interested applicants to submit information required by DOT in order for DOT to evaluate that interested applicant's application for TIFIA credit assistance. The forms for the letter of interest and application are available for review at http://www.fhwa.dot.gov/ipd/tifia/guidance_applications/tifia_applications.htm. DOT will use the collected information to evaluate and select recipients for credit assistance as authorized under MAP-21. Applicants may be asked to provide additional supporting evidence or to quantify details during the review and negotiation process on a case-by-case basis.

MAP-21 establishes a multi-step application process for TIFIA credit assistance. This process begins with the submission of a letter of interest and determination of eligibility. Only after a project sponsor has submitted a letter of interest and met all statutory eligibility requirements will the project sponsor be invited to submit an application.

The letter of interest must (i) describe the project and the location, purpose, and cost of the project, (ii) outline the proposed financial plan, including the requested credit assistance and the proposed obligor; (iii) provide a status of environmental review; and (iv) provide information regarding satisfaction of other eligibility requirements of the TIFIA credit program. Letters of Interest will be submitted using the form on the TIFIA Web site: http://www.fhwa.dot.gov/ipd/tifia/guidance_applications/index.htm. DOT has revised the form for the letter of interest to reflect changes made to the TIFIA program by MAP-21. The letter of interest form requires project sponsors to provide information demonstrating satisfaction (or expected satisfaction if permitted by the statute) of each of the eligibility requirements included in MAP-21. DOT estimates that the letter of interest would require approximately 20 hours in each instance to complete.

If a project sponsor is invited to submit an application, DOT estimates that each application will require approximately 100 hours to complete. DOT uses the application to seek a project sponsor's contact information for the applicant entity; project information including name, location, description, rural project description (if applicable), purpose (quantitative/qualitative details), cost and TIFIA credit assistance request, project management and compliance monitoring plan, maintenance and operations plan. DOT also expects project sponsors to submit information confirming that the project satisfies eligibility requirements including creditworthiness (rate covenant, coverage requirements, investment grade rating(s)), fosters partnerships that attract public and private investment, demonstrates that TIFIA assistance would enable the project to proceed at an earlier date or with reduced lifecycle costs and that TIFIA assistance would reduce the contribution of Federal grant assistance.

Sponsors also must report in the application the status of project environmental review (NEPA), permits and approvals, transportation planning and programming process approvals (STIP and TIP), construction contracting process readiness, and expected project schedule. Project sponsors are required to produce a financial plan including estimated capital project cost, amount and type of credit assistance requested, amount of TIFIA assistance requested, a summary table detailing sources and uses of funds, cash flow pro forma, a supplementary narrative detailing other borrowed funds and revenue sources (including pledged repayment source).

Finally, a project sponsor must indicate in the application the proposed terms for the requested TIFIA credit instrument, reasons for selecting the proposed type(s) of credit instrument, flexibility in financial plan to support a reduced percentage-share of TIFIA credit assistance, risks and mitigation strategies, details on the applicant's organizational structure, including background information and legal authority, organization and management, identity of the entity that will serve as the applicant (public-sector agency or private-sector firm),whether the applicant the same entity as the borrower (detail project team members), prior experience, financial condition, and litigation and/or conflicts.

Issued in Washington, DC, on September 23, 2013.
Sylvia I. Garcia,
Acting Chief Financial Officer and Assistant Secretary for Budget and Programs.

[FR Doc. 2013-23512 Filed 9-26-13; 8:45 am]

BILLING CODE 4910-9X-P